DEPARTMENT OF AGRICULTURE

Grain Inspection, Packers and Stockyards Administration

Designation of West Lafayette (IN) To Provide Class X or Class Y Weighing Services

AGENCY: Grain Inspection, Packers and Stockyards Administration, USDA.

ACTION: Notice.

SUMMARY: GIPSA is announcing the designation of Titus Grain Inspection, Inc. (Titus) to provide Class X or Class Y weighing services under the United States Grain Standards Act (USGSA), as amended.

DATES: Effective Date: November 20, 2012.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

SUPPLEMENTARY INFORMATION: In the May 25, 2010 Federal Register (75 FR 29310), GIPSA announced the designation of Titus to provide official services under the USGSA, effective July 1, 2010 to June 30, 2013. Subsequently, Titus asked GIPSA to amend their designation to include official weighing services. Section 79a of the USGSA authorizes the Secretary to designate authority to perform official weighing to an agency providing official inspection services within a specified geographic area, if such agency is qualified under section 79(f) of the USGSA. GIPSA evaluated information regarding the designation criteria in section 79(f) of the USGSA and determined that Titus is qualified to provide official weighing services in their currently assigned geographic area.

Titus's present designation is amended to include Class X or Class Y weighing within their assigned geographic area, effective November 20, 2012 to June 30, 2013.

Interested persons may obtain official services by contacting Titus at 765-497-2202.

Authority: 7 U.S.C. 71-87k.

Larry Mitchell,
Administrator, Grain Inspection, Packers and Stockyards Administration.

[FR Doc. 2013-04306 Filed 2-25-13; 8:45 am]

BILLING CODE 3410-KD-P